DEPARTMENT OF THE INTERIOR

Fish and Wildlife Service

[FWS-R4-R-2010-N052; 40136-1265-0000-S3]

J.N. “Ding” Darling National Wildlife Refuge, Lee County, FL

AGENCY: Fish and Wildlife Service, Interior.

ACTION: Notice of availability: Draft comprehensive conservation plan and environmental assessment; request for comments.

SUMMARY: We, the Fish and Wildlife Service (Service), announce the availability of a draft comprehensive conservation plan and environmental assessment (Draft CCP/EA) for J.N. “Ding” Darling National Wildlife Refuge (NWR) for public review and comment. In the Draft CCP/EA, we describe the alternative we propose to use to manage this refuge for the 15 years following approval of the final CCP.

DATES: To ensure consideration, we must receive your written comments by June 16, 2010.

ADDRESSES: You may obtain a copy of the Draft CCP/EA by contacting Ms. Cheri M. Ehrhardt, via U.S. mail at J.N. “Ding” Darling NWR, 1 Wildlife Drive, Sanibel, FL 33957, or via e-mail at DingDarlingCCP@fws.gov. Alternatively you may download the document from our Internet Site at http://southeast.fws.gov/planning under “Draft Documents.” Submit comments on the Draft CCP/EA to the above postal address or e-mail address.

FOR FURTHER INFORMATION CONTACT: Ms. Cheri M. Ehrhardt, Natural Resource Planner, telephone: 321/861-2368; or Mr. Paul Tritaik, Refuge Manager, telephone: 239/472-1100.

SUPPLEMENTARY INFORMATION:

Introduction

With this notice, we continue the CCP process for J.N. “Ding” Darling NWR. We started the process through a notice in the Federal Register on June 27, 2007 (72 FR 35254), and extended the comment period in a notice in the Federal Register on April 2, 2008 (73 FR 17991). For more about the refuge, its purposes, and our CCP process, please see those notices.

Background

The CCP Process

The National Wildlife Refuge System Administration Act of 1966 (16 U.S.C. 668dd-668ee), as amended by the National Wildlife Refuge System Improvement Act of 1997, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including hunting, fishing, wildlife observation, wildlife photography, and environmental education and interpretation. We will review and update the CCP at least every 15 years in accordance with the Administration Act.

The 6,406.79-acre refuge supports hundreds of species of wildlife and plants, providing protection for 13 Federal-listed species and 49 State-listed species, as well as for migratory birds and native wildlife. It also supports habitat diversity through tropical hardwood forests, beaches, mangrove swamps, mixed wetland shrubs, salt marshes, open waters and seagrass beds, and lakes and canals. Comprising roughly half of Sanibel Island and most of Buck Key, the J.N. “Ding” Darling NWR provides key habitats supporting a variety of species in a highly developed landscape. The city of Sanibel, Lee County, Sanibel-Captiva Conservation Foundation, and the Service work together to continue conservation work on Sanibel Island, which is one of the top birding hot spots in the nation, with beautiful beaches, shelling, fishing, and wildlife. This partnership has resulted in land use planning to guide growth and development, ensuring that future generations will be able to enjoy the special ambience and quiet harmony that Sanibel Island offers.

The priority management issues facing this refuge are addressed in the Draft CCP/EA, including: (1) Increasing and changing human population, development of the landscape, recreational uses and demands, and associated impacts; (2) issues and impacts associated with water quality, water quantity, and timing of flows; (3) invasion and spread of exotic, invasive, and nuisance species; (4) climate change impacts; (5) need for long-term protection of important resources; (6) declines in and threats to rare, threatened, and endangered species; (7) insufficient baseline wildlife and habitat data and lack of a comprehensive habitat management plan; and (8) insufficient resources to address refuge needs.

CCP Alternatives, Including Our Proposed Alternative

We developed four alternatives for managing the refuge and chose Alternative C as the proposed alternative. A full description of each alternative is in the Draft CCP/EA. We summarize each alternative below.

Alternative A (Current Management, No Action)

Alternative A would continue management activities and programs at levels similar to past management, providing a baseline for the comparison of the action alternatives. Funding and staffing levels would remain similar to current levels, and programs would follow the same direction, emphasis, and intensity as under current management. Working with partners, we would conduct several surveying and monitoring activities, providing information for a variety of birds; juvenile and baitfish populations; and key rare, threatened, and endangered species. Habitat management activities on the refuge would include an impounded wetland reconnection/mangrove restoration project, impoundment management, prescribed fire, fuel and fire-effect monitoring, exotic plant control, limited water quality monitoring, and limited ditch clearing. Further, we would work with the partners to address exotic, invasive, and nuisance animals; water quality, quantity, and timing of flows concerns; and climate change. We would continue to offer a robust visitor services program, facilitating fishing, wildlife observation, wildlife photography, and environmental education and interpretation, while continuing to use a concessionaire to help provide these opportunities. Management and use of the Wilderness Area would continue. We would work with numerous governmental agencies, non-governmental organizations, and other partners to foster and promote refuge management goals, including through existing management and cooperative agreements.

Alternative B (Native Wildlife and Habitat Diversity)

Alternative B would expand or initiate our management activities, with a focus on native wildlife and habitat diversity, providing a new focus for refuge management actions, decisions, and priorities. Increased surveying and monitoring activities and increased water management capabilities for the impoundments, the Bailey Tract, and the State Botanical Site would better serve a variety of species. Habitat management and restoration activities would better provide for a mix of native species. Control of exotic, invasive, and nuisance plants and animals would be expanded. Benefitting numerous species and habitats of management concern, we would expand activities to better coordinate with the partners to address water quality, quantity, and timing of flows related to Lake Okeechobee regulatory releases, drainage in the Caloosahatchee Basin, local runoff issues, water quality in Tarpon Bay and on the refuge, and operation of the city of Sanibel's weir. With a focus on native wildlife and habitat diversity, we would utilize the best available science and employ a strategic habitat conservation approach to anticipate wildlife and habitat adaptation tendencies and to target management actions to facilitate successful adaptation responses to the impacts of climate change. We would better protect the archaeological and historical resources of the refuge on Sanibel and Captiva Islands, including conducting a complete archaeological and historical resources survey and protecting in perpetuity the historically significant site of “Ding” Darling's fishing cabin off Captiva Island. We would complete the approved acquisition boundary; develop management agreements to protect key resources; and pursue additional special designations for the refuge, including Western Hemisphere Shorebird Reserve Network and RAMSAR Wetlands of International Importance. We would enhance our Wilderness Area program. Although we currently have a robust visitor services program, Alternative B would focus more on native wildlife and habitat diversity and the minimization of human impacts on these resources. In general, existing visitor uses would continue, including fishing, wildlife observation and photography, and environmental education and interpretation, while we would increase efforts to improve ethical behavior, expand and enhance education and outreach activities, and maintain the concession approach to facilitating visitor activities and experiences. To provide additional visitor opportunities, we would locate and develop an observation tower at the Bailey Tract. The Wildlife Drive would be evaluated for any needed changes. We would evaluate the need for and ability to provide parking at the Shell Mound Trail to address existing ad-hoc parking and Wildlife Drive congestion issues at this site. We would convert the temporary fee-funded law enforcement officer position to a permanent position and add five refuge-specific staff: Wildlife biologist, biological science technician, two law enforcement officers, and park ranger (Environmental Education/Outreach). Historically, a single commercial bait fisherman has operated on the refuge. In line with regional compatibility guidance and to limit the impacts from commercial fishing activities, we would phase out commercial bait fishing activities from the refuge during the life of the CCP.

Alternative C (Migratory Birds, Proposed Action)

Alternative C would expand management with a focus on the needs of migratory birds, providing direction for management actions, decisions, and priorities, and prioritizing migratory birds in all restoration plans. This alternative addresses the management needs of all birds covered under the Migratory Bird Treaty Act, including resident species of native birds that are found using the refuge year-round. Expanded and new surveying and monitoring activities, habitat management, and habitat restoration would benefit a variety of species, including rare, threatened, and endangered species, with an emphasis on migratory birds. Increased water management capabilities for the impoundments, the Bailey Tract, and the State Botanical Site would also benefit a variety of species, predominantly migratory birds. Control of exotic, invasive, and nuisance plants and animals would be expanded, with a focus on migratory birds. To benefit migratory birds while also serving numerous species and habitats of management concern, we would expand activities to better coordinate with the partners to address water quality, quantity, and timing of flows related to Lake Okeechobee regulatory releases, drainage in the Caloosahatchee Basin, local runoff issues, water quality in Tarpon Bay and on the refuge, and operation of the city of Sanibel's weir. We would work with partners to evaluate water quality impacts on algal blooms, bird usage, seagrasses, and fish populations in and around the refuge. With a focus on migratory birds, we would utilize the best available science and employ a strategic habitat conservation approach to anticipate wildlife and habitat adaptation tendencies and to target management actions to facilitate successful adaptation responses to the impacts of climate change. We would better protect the archaeological and historical resources of the refuge on Sanibel and Captiva Islands, including conducting a complete archaeological and historical resources survey and protecting in perpetuity the historically significant site of “Ding” Darling's fishing cabin off Captiva Island. We would complete the approved acquisition boundary, with a focus on migratory birds; develop management agreements to protect key resources, including nesting and roosting areas; and pursue additional special designations for the refuge, including Western Hemisphere Shorebird Reserve Network and RAMSAR Wetlands of International Importance. We would enhance our Wilderness Area program. Although we currently have a robust visitor services program, Alternative C would focus more on migratory birds and the minimization of human impacts on these resources. In general, existing visitor uses would continue, including fishing, wildlife observation, wildlife photography, and environmental education and interpretation, while we would increase our efforts to improve ethical behavior, expand and enhance education and outreach activities, and maintain the concession approach to facilitating visitor activities and experiences. To provide additional visitor opportunities, we would locate and develop an observation tower at the Bailey Tract and a handicapped-accessible fishing pier at Smith Pond on the Bailey Tract. The Wildlife Drive would be evaluated for any needed changes. Further, we would evaluate the need for and ability to provide parking at the Shell Mound Trail to address existing ad-hoc parking and Wildlife Drive congestion issues at this site. We would convert the temporary fee-funded law enforcement officer position to a permanent position and would add five refuge-specific staff: Wildlife biologist, biological science technician, two law enforcement officers, and park ranger (Environmental Education/Outreach). Historically, a single commercial bait fisherman has operated on the refuge. In line with regional compatibility guidance and to limit the impacts from commercial fishing activities, we would phase out commercial bait fishing activities from the refuge during the life of the CCP.

Alternative D (Rare, Threatened, and Endangered Species)

Alternative D would focus on initiating and increasing management actions that promote the recovery of rare, threatened, and endangered species occurring within the refuge, providing a new direction for management actions, decisions, and priorities. Expanded and initiated surveying and monitoring efforts, habitat management, habitat restoration, and research would benefit a variety of species, with an emphasis on rare, threatened, and endangered species. Control of exotic, invasive, and nuisance plants and animals would be expanded under Alternative D, with a focus on high-priority habitats serving rare, threatened, and endangered species. To benefit rare, threatened, and endangered species while also serving numerous species and habitats of management concern, we would expand activities to better coordinate with partners to address water quality, quantity, and timing of flows related to Lake Okeechobee regulatory releases, drainage in the Caloosahatchee Basin, local runoff issues, water quality in Tarpon Bay and the refuge, and operation of the city of Sanibel's weir. We would work with partners to evaluate water quality impacts on algal blooms, bird usage, seagrasses, and fish populations in and around the refuge to better understand the impacts on rare, threatened, and endangered species. We would coordinate with researchers and the partners to understand the impacts of climate change on refuge resources with a focus on rare, threatened, and endangered species, fostering and conducting research as possible, establishing benchmarks, and adapting management. We would better protect the archaeological and historical resources of the refuge on Sanibel and Captiva Islands, including conducting a complete archaeological and historical resources survey and protecting in perpetuity of the historically significant site of “Ding” Darling's fishing cabin off Captiva Island. We would complete the approved acquisition boundary; develop management agreements to protect key resources; and pursue additional special designations for the refuge, including Western Hemisphere Shorebird Reserve Network and RAMSAR Wetlands of International Importance. In addition, we would expand our Wilderness Area program. Although we currently have a robust visitor services program, Alternative D would focus more on rare, threatened, and endangered species and the minimization of human impacts on these resources. In general, existing visitor uses would continue, including fishing, wildlife observation, wildlife photography, and environmental education and interpretation, while we would increase efforts to improve ethical behavior, expand and enhance education and outreach activities, and maintain the concession approach to facilitating visitor activities and experiences. To provide additional visitor opportunities, we would locate and develop an observation tower at the Bailey Tract. The Wildlife Drive would be evaluated for any needed changes. Further, we would evaluate the need for and ability to provide parking at the Shell Mound Trail to address existing ad-hoc parking and Wildlife Drive congestion issues at this site. To help accomplish the outlined actions, Alternative D would be similar to Alternatives B and C. We would convert the temporary fee-funded law enforcement officer position to a permanent position and would add five refuge-specific staff: Wildlife biologist, biological science technician, two law enforcement officers, and park ranger (Environmental Education/Outreach). Historically, a single commercial bait fisherman has operated on the refuge. In line with regional compatibility guidance and to limit the impacts from commercial fishing activities, we would phase out commercial bait fishing activities from the refuge during the life of the CCP.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: March 22, 2010.
Mark J. Musaus,
Acting Regional Director.

[FR Doc. 2010-11684 Filed 5-14-10; 8:45 am]

BILLING CODE 4310-55-P